DEPARTMENT OF HOMELAND SECURITY

Coast Guard

33 CFR Part 117

[Docket No. USCG-2009-0890]

RIN 1625-AA09

Drawbridge Operation Regulation; Chambers Creek, Steilacoom, WA, Schedule Change

AGENCY: Coast Guard, DHS.

ACTION: Notice of proposed rulemaking; withdrawal.

SUMMARY: The Coast Guard is withdrawing its notice of proposed rulemaking (NPRM) concerning the drawbridge operation regulation for the Burlington Northern Santa Fe Railroad Bridge across Chambers Creek, mile 0.0, at Steilacoom, Washington, by which two-hour notice would have been required for openings from 3:30 p.m. to 7 a.m. every day. The NPRM is being withdrawn because of multiple objections to the proposed change from users of that waterway.

DATES: The notice of proposed rulemaking is withdrawn on April 30, 2010.

ADDRESSES: The docket for this withdrawn rulemaking is available for inspection or copying at the Docket Management Facility (M-30), U.S. Department of Transportation, West Building Ground Floor, Room W12-140, 1200 New Jersey Avenue, SE., Washington, DC 20590-0001, between 9 a.m. and 5 p.m., Monday through Friday, except Federal holidays. You may also find this docket on the Internet by going to http://www.regulations.gov, inserting USCG-2009-0890 in the “Keyword” box and then clicking “Search”.

FOR FURTHER INFORMATION CONTACT: If you have questions on this notice, call or e-mail Austin Pratt, Chief, Bridge Section, Waterways Management Branch, Thirteenth Coast Guard District; telephone 206-220-7282, e-mail address william.a.pratt@uscg.mil. If you have questions on viewing materials in the docket, call Renee V. Wright, Program Manager, Docket Operations, telephone 202-366-9826.

SUPPLEMENTARY INFORMATION:

Background

On December 8, 2009, we published an NPRM entitled “Drawbridge Operation Regulation; Chambers Creek, Steilacoom, WA, Schedule Change” in the Federal Register (74 FR 64641). The NPRM proposed to change current regulations so that Burlington Northern Railroad, the owner of the Chambers Creek Bridge, would only have been required to raise the draw of the bridge between 3:30 p.m. and 7 a.m. everyday if at least two hours of notice is provided. At all other times the draw would have been required to be raised on signal.

Withdrawal

The NPRM is being withdrawn because of multiple objections to the change from users of the waterway in question and, in particular, the clients of the marina upstream of the Chambers Creek Bridge. The primary point of objection was that 3:30 p.m. was too early in the day, especially in summer boating season, to require a two-hour notice. This would pertain mostly to vessels returning to moorage at the end of a day of boating.

The Coast Guard received a total of 17 written responses. At least seven boaters suggested that a two-hour notice outside daylight hours would be feasible or a seasonal change outside the peak boating season. A dozen respondents pointed out that the draw records cited in the NPRM did not cover the peak summer months of boating. These records were no longer available from the bridge owner. Seven responses also noted that boaters often group together for a single draw opening thereby reducing the number of openings that otherwise would have been tallied for single-vessel passages. Additionally, several comments noted that tide elevations are a significant factor at Chambers Creek. Many lower tides stop boat traffic altogether and would fail to coincide favorably with the proposed hours.

No less than eleven responses cited numerous failures of the bridge owner to operate according to the existing regulations. The chief violations were reported as the absence of drawtenders and unreasonable delays to openings. At least two boat owners observed that cell phone coverage is not adequate for telephone contact by vessels returning to moorage from popular boating locations in Puget Sound that are two hours travel time from the marina. Several comments were concerned with delayed access of fireboats in the event of a marina fire.

Authority

This action is taken under the authority of 33 U.S.C. 499; 33 CFR 1.05-1; Department of Homeland Security Delegation No. 0170.1.

Dated: April 8, 2010.
G.T. Blore,
Rear Admiral, U.S. Coast Guard, Commander, Thirteenth Coast Guard District.

[FR Doc. 2010-10076 Filed 4-29-10; 8:45 am]

BILLING CODE 9110-04-P